EXPORT-IMPORT BANK OF THE UNITED STATES

Notice of Open Meeting of Both the Advisory Committee of the Export-Import Bank of the United States (EXIM) and the Sub-Saharan Africa Advisory Committee of the Export-Import Bank of the United States (EXIM); Correction

AGENCY: Export-Import Bank of the United States.

ACTION: Notice; correction.

SUMMARY: The Export-Import Bank published a document in the Federal Register on June 21, 2019, concerning a meeting of the Advisory and Sub-Saharan Committees. The start time has since been revised.

FOR FURTHER INFORMATION CONTACT: For further information, contact the External Engagement team, 811 Vermont Ave. NW, Washington, DC 20571, at external@exim.gov.

SUPPLEMENTARY INFORMATION:

Correction

In the Federal Register of August 21, 2019, Document 2019-19792, on page 43598, in the third column, correct the Time and Place to read:

Time and Place: Wednesday, September 11, 2019 from 9:00 a.m. until 1:45 p.m. A break for lunch will be at the expense of the attendee. Security processing will be necessary for reentry into the building. The meeting will be held at EXIM headquarters in the Main Conference Room—11th floor, 811 Vermont Avenue NW, Washington, DC 20571.

Joyce Brotemarkle Stone,
Assistant Corporate Secretary.

[FR Doc. 2019-19528 Filed 9-9-19; 8:45 am]

BILLING CODE 6690-01-P